DEPARTMENT OF COMMERCE

International Trade Administration

[A-201-802]

Gray Portland Cement and Clinker From Mexico; Notice of Extension of Final Results of Antidumping Duty Administrative Review

AGENCY: Import Administration, International Trade Administration, Department of Commerce.

ACTION: Notice of extension of time limits for final results of antidumping duty administrative review.

SUMMARY: The Department of Commerce is extending the time limit for the final results of the antidumping duty administrative review of the antidumping duty order on gray portland cement and clinker from Mexico. The review covers one manufacturer/exporter, CEMEX, S.A. de C.V. (CEMEX), and its affiliate, Cementos de Chihuahua, S.A. de C.V. (CDC). The period of review is August 1, 1998, through July 31, 1999.

EFFECTIVE DATE: January 5, 2001.

FOR FURTHER INFORMATION CONTACT: David Dirstine or Minoo Hatten, AD/CVD Enforcement Group I, Office 3, Import Administration, International Trade Administration, U.S. Department of Commerce, 14th Street and Constitution Avenue, NW., Washington, DC 20230; telephone (202) 482-4033 and (202) 482-1690, respectively.

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (1999).

Extension of Time Limits for Final Results

The Department published the preliminary results of this administrative review on September 7, 2000 (64 FR 54220). The deadline for completing the final results of review is January 5, 2000. Under section 751(a)(3)(A) of the Act, the Department may extend the deadline for completion of an administrative review if it determines that it is not practicable to complete the review within the statutory time limit. Due to the complexity of the issues in this case, such as whether certain sales are outside the ordinary course of trade and how difference-in-merchandise adjustments are calculated, and due to administrative constraints, the Department determines that it is not practicable to complete the final results of this review within the statutory time limits mandated by section 751(a)(3)(A) of the Act. Therefore, the Department is extending the time limit for the final results of this review to February 5, 2000.

Dated: December 27, 2000.
Richard W. Moreland,
Deputy Assistant Secretary for AD/CVD Enforcement I.

[FR Doc. 01-275 Filed 1-4-01; 8:45 am]

BILLING CODE 3510-DS-P